DEPARTMENT OF TRANSPORTATION

Federal Aviation Administration

[Docket No. FAA-2013-0265]

Proposed Policy for Discontinuance of Certain Instrument Approach Procedures

AGENCY: Federal Aviation Administration (FAA), DOT.

ACTION: Notice of proposed policy and request for comment.

SUMMARY: As, new technology facilitates the introduction of area navigation (RNAV) instrument approach procedures over the past decade, the number of procedures available in the National Airspace System has nearly doubled. The complexity and cost to the Federal Aviation Administration (FAA) of maintaining the existing ground based navigational infrastructure while expanding the new RNAV capability is not sustainable. The FAA is considering the cancellation of certain Non-directional Beacon (NDB) and Very High Frequency (VHF) Omnidirectional Radio Range (VOR) instrument approach procedures (IAP) at airports that have multiple instrument approach procedures. The FAA proposes specific criteria to guide the identification and selection of appropriate NDB and VOR instrument approach procedures that can be considered for cancellation. The VOR IAPs associated with this cancellation initiative would be selected from the criteria outlined below. This Notice is not a part of the FAA's VOR minimum operating network (MON) initiative.

DATES: Comments must be received on or before October 1, 2013.

ADDRESSES: Send comments identified by docket number 2013-0265 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at (202) 493-2251.

• Privacy: The FAA will post all comments it receives, without change, to http://www.regulations.gov, including any personal information the commenter provides. Using the search function of the docket Web site, anyone can find and read the electronic form of all comments received into any FAA dockets, including the name of the individual sending the comment (or signing the comment for an association, business, labor union, etc.). DOT's complete Privacy Act Statement can be found in the Federal Register published on April 11, 2000 (65 FR 19477-19478), as well as at http://DocketsInfo.dot.gov.

• Docket: Background documents or comments received may be read at http://www.regulations.gov at any time. Follow the online instructions for accessing the docket or Docket Operations in Room W12-140 of the West Building Ground Floor at 1200 New Jersey Avenue SE., Washington, DC, between 9 a.m. and 5 p.m., Monday through Friday, except Federal holidays. This proposal is subject to change after review of public comments.

FOR FURTHER INFORMATION CONTACT: For questions concerning this action, contact Mr. Larry Strout, Aeronautical Navigational Products, Terminal Products Group, Central Products Team Manager, Air Traffic Organization, AJV-353, Federal Aviation Administration, 6500 S. MacArthur BLVD, Oklahoma City, OK 73169; telephone (405) 954-5070, email AMC-ATO-IFP-Cancellations@faa.gov.

SUPPLEMENTARY INFORMATION:

Authority

Title 49 of the United States Code, section 40103, vests the Administrator with broad authority to regulate the safe and efficient use of the navigable airspace. The Administrator is authorized to issue rules and regulations to govern the flight, navigation, protection, and identification of aircraft for the protection of persons and property on the ground, and for the efficient use of the navigable airspace (49 U.S.C. 40103(b)). The Administrator also is authorized under § 44701(a)(5) to promote safe flight of civil aircraft in air commerce by prescribing regulations and minimum standards for other practices, methods, and procedures necessary for safety in air commerce and national security.

Background

The FAA is continuing to expand the availability and capability of area navigation (RNAV) to improve safety and efficiency within the National Airspace System (NAS). A major enhancement is the introduction of Wide Area Augmentation System (WAAS) capable RNAV instrument approach procedures that provide for near-precision vertical guidance.

As a result of new RNAV instrument approach procedures, the number of instrument approach procedures available to the public has nearly doubled over the past decade and will continue to grow with the public's demand for new WAAS procedures. The complexity and cost of maintaining existing ground-based navigational infrastructure while expanding new RNAV capability is exceeding the FAA's current staffing and budget allocations and projections over the next five years. To meet the public's demand for WAAS capable RNAV procedures, the FAA must manage the growth in the number of instrument approach procedures and finds that certain redundant ground-based procedures can be eliminated without affecting safety or access to airports.

To help identify viable strategies for cancellation of ground-based procedures, the FAA awarded a grant to the Flight Safety Foundation. In conducting its research, the Flight Safety Foundation held meetings with FAA and Department of Defense (DOD) personnel and key industry interest groups. Outreach conducted by the Foundation identified that most NDB procedures are no longer desired, except in support of certain DOD operations and flight schools. The Flight Safety Foundation also found user support for cancelling some VOR procedures when multiple IAPs are available. Results of the Flight Safety Foundation study were published in the report titled “A Recommended Process: Safely Reducing Redundant or Underutilized Instrument Approach Procedures.” The report is available for review at: https://www.faa.gov/air_traffic/flight_info/aeronav/procedures/reports/media/FAA_Grant_Flight_Safety_Foundation_Inc-2010G023.pdf.

By this notice, the FAA seeks comments on proposed criteria that would facilitate the FAA's determination of which procedures can be considered for cancellation. After reviewing the comments submitted to this notice, the FAA will use the criteria for selection of potential NDB and VOR procedures for cancellation. Once the criteria are established and the FAA considers IAPs for cancellation, the FAA will publish a list of potential IAPs in the Federal Register for notice and comment. Submitted comments will be reviewed and addressed in the final list of subject IAPs published in the Federal Register. The criteria proposed in this notice does not affect any NAS navigational back-up plans and is not a part of the FAA's VOR minimum operating network (MON) initiative.

Proposed Policy

The NDB and VOR IAPs recommended for cancellation would be selected at airports using the following criteria. It must be noted that all airports that have existing RNAV and ground-based IAPs would maintain at least one RNAV and one ground-based IAP.

Airports that would be considered for NDB or VOR IAP cancellation:

— All airports with an NDB IAP.

—All airports with a VOR/DME RNAV IAP, unless it is the only IAP at the airport.

—All airports with two or more ground-based IAPs and an RNAV IAP.

—All airports with multiple, redundant ground-based IAPs (e.g., three VOR procedures).

Additional consideration would be given to the following factors in determining the list of potential candidates for cancellation:

—Prevailing wind runways.

—Prevailing runway alignment during adverse weather operations.

—If an airport has a published ILS IAP and additional ground-based IAPs, cancel the procedure to the same runway as the ILS.

—For airports with multiple VOR and NDB IAP's, retain the IAP with the lowest minimums (if minimums are within 20 feet of each other retain the procedure that allows optimum use by all customers (i.e. VOR and VOR/DME retain VOR because there are no equipage limitations).

Airports that would not be considered for NDB or VOR IAP cancellations:

—Airport with only RNAV/RNPs IAPs published.

—Airport with only one ground-based procedure.

—Airports will not be considered if cancellation would result in removing all IAPs from the airport.

Lastly, the FAA is not considering the following types of procedures for cancellation:

PBN Procedures (RNAV or RNP).

ILS procedures.

Localizer procedures.

TACAN procedures.

Standard Instrument Arrivals (STARs).

Standard Instrument Departures (SIDs).

Comments Invited

The FAA invites interested parties to submit written comments, data, or views. The agency also invites comments relating to the economic, environmental, energy, or federalism impacts that might result from adopting the proposals in this document. The most helpful comments reference a specific portion of the proposal, explain the reason for any recommended change, and include supporting data. To ensure the docket does not contain duplicate comments, commenters should send only one copy of written comments or, if comments are filed electronically, commenters should submit only one time.

The FAA will file in the docket all comments it receives. Before acting on this proposal, the FAA will consider all comments it receives on or before the closing date for comments. The FAA will consider comments filed after the comment period has closed if it is possible to do so without incurring expense or delay. The agency may change this proposal in light of the comments it receives.

Proprietary or Confidential Business Information: Commenters should not file proprietary or confidential business information in the docket. Such information must be sent or delivered directly to the person identified in the FOR FURTHER INFORMATION CONTACT section of this document, and marked as proprietary or confidential. If submitting information on a disk or CD-ROM, mark the outside of the disk or CD-ROM, and identify electronically within the disk or CD-ROM the specific information that is proprietary or confidential.

Under 14 CFR 11.35(b), the FAA is aware of proprietary information filed with a comment, the agency does not place it in the docket. It is held in a separate file to which the public does not have access and the FAA places a note in the docket that it has received it. If the FAA receives a request to examine or copy this information, it treats it as any other request under the Freedom of Information Act (5 U.S.C. 552). The FAA processes such a request under Department of Transportation procedures found in 49 CFR part 7.

Issued in Washington, DC, on July 19, 2013.
Abigail Smith,
Aeronautical Navigation Products, Director.

[FR Doc. 2013-17940 Filed 8-1-13; 8:45 am]

BILLING CODE 4910-13-P